DEPARTMENT OF TRANSPORTATION

Federal Aviation Administration

1st Meeting—Special Committee 221—Aircraft Secondary Barriers

AGENCY: Federal Aviation Administration (FAA), DOT.

ACTION: Notice of RTCA special committee 221 meeting.

SUMMARY: The FAA is issuing this notice to advise the public of a meeting of RTCA Special Committee 221: Aircraft Secondary Barriers.

DATES: The meeting will be held December 3-4, 2008 from 9 a.m. to 5 p.m.

ADDRESSES: The meeting will be held at RTCA, Inc., MacIntosh-NBAA and Hilton-ATA Rooms, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 221, Aircraft Secondary Barriers. The agenda will include:

• Opening Plenary (Welcome/Introductions/Administrative Remarks, Agenda Overview, RTCA Overview).

• Secondary Barrier—Background/History.

• Current Committee Scope, Terms of Reference Overview.

• Presentation, Discussion, Recommendations.

• Organization of Work, Assign Tasks and Workgroups.

• Presentation, Discussion, Recommendations.

• Assignment of Responsibilities.

• Closing Plenary (Other Business, Establish Agenda for Next Meeting, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 10, 2008.
Francisco Estrada C.,
RTCA Advisory Committee.

[FR Doc. E8-27276 Filed 11-17-08; 8:45 am]

BILLING CODE 4910-13-P